FEDERAL COMMUNICATIONS COMMISSION

47 CFR Part 73

[DA 03-2714; MB Docket No. 03-190; RM-10738]

Radio Broadcasting Services; Athens and Doraville, GA

AGENCY: Federal Communications Commission.

ACTION: Proposed rule.

SUMMARY: This document requests comments on a petition for rulemaking filed by Cox Radio, Inc. and CXR Holdings, Inc. requesting the reallotment of Channel 238C1 from Athens, Georgia to Doraville, Georgia, as the community's first local aural transmission service, and modification of the license for Station WBTS to reflect the changes. Channel 238C1 can be allotted to Doraville at coordinates 34-07-32 and 83-51-32. The proposal complies with the provisions of Section 1.420(i) of the Commission's Rules, and therefore, the Commission will not accept competing expressions of interest in the use of Channel 238C1 at Doraville, Georgia.

DATES: Comments must be filed on or before October 27, 2003, and reply comments on or before November 12, 2003.

ADDRESSES: Office of the Secretary, Federal Communications Commission, 445 Twelfth Street SW., Room TW-A325, Washington, DC 20554. In addition to filing comments with the FCC, interested parties should serve the petitioner's counsel, as follows: Kevin F. Reed, Dow, Lohnes & Albertson, PLLC, 1200 New Hampshire Avenue NW., Suite 800, Washington, DC 20036.

FOR FURTHER INFORMATION CONTACT: Kathleen Scheuerle, Media Bureau, (202) 418-2180.

SUPPLEMENTARY INFORMATION: This is a synopsis of the Commission's Notice of Proposed Rule Making, MB Docket No. 03-190, adopted September 3, 2003, and released September 5, 2003. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone (202) 863-2893, or via e-mail qualexint@aol.com

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Georgia, is amended by removing Channel 238C at Athens and by adding Doraville, Channel 238C1.

Federal Communications Commission.
John A. Karousos,
Assistant Chief, Audio Division, Media Bureau.

[FR Doc. 03-23998 Filed 9-18-03; 8:45 am]

BILLING CODE 6712-01-P